DEPARTMENT OF COMMERCE

National Institute of Standards and Technology

Judges Panel of the Malcolm Baldrige National Quality Award

AGENCY: National Institute of Standards and Technology, Department of Commerce.

ACTION: Notice of closed meeting.

SUMMARY: Pursuant to the Federal Advisory Committee Act, 5 U.S.C. app. 2, notice is hereby given that the Judges Panel of the Malcolm Baldrige National Quality Award will meet Monday, November 15, 2004, 12 p.m. to 5:30 p.m.; Tuesday, November 16, 2004, 8 a.m. to 5:30 p.m.; Wednesday, November 17, 2004, 8 a.m. to 5:30 p.m.; Thursday, November 18, 2004, and Friday, November 19, 2004, 8 a.m. to 3 p.m. The Judges Panel is composed of nine members prominent in the field of quality management and appointed by the Secretary of Commerce. The purpose of this meeting is to review the site visit process, review the final judging process and meeting procedures, review of feedback discussion approach with site visit team leaders, final judging of the 2004 applicants, learning and improvements for 2005 judging cycle, update on the 2005 program and review 2005 judges calendar. The review process involves examination of records and discussions of applicant data, and will be closed to the public in accordance with section 552b(c)(4) of Title 5, United States Code.

DATES: The meeting will convene November 15, 2004 at 12 p.m. and adjourn at 3 p.m. on November 19, 2004. The entire meeting will be closed.

ADDRESSES: The meeting will be held at the National Institute of Standards and Technology, Administration Building, Room A1038, Gaithersburg, Maryland 20899.

FOR FURTHER INFORMATION CONTACT: Dr. Harry Hertz, Director, National Quality Program, National Institute of Standards and Technology, Gaithersburg, Maryland 20899, telephone number (301) 975-2361.

SUPPLEMENTARY INFORMATION: The Assistant Secretary for Administration, with the concurrence of the General Counsel, formally determined on February 7, 2004, that the meeting of the Judges Panel will be closed pursuant to section 10(d) of the Federal Advisory Committee Act, 5 U.S.C. app. 2, as amended by section 5(c) of the Government in the Sunshine Act, Pub. L. 94-409. The meeting, which involves examination of Award applicant data from U.S. companies and a discussion of this data as compared to the Award criteria in order to recommend Award recipients, may be closed to the public in accordance with section 552b(c)(4) of Title 5, United States Code, because the meetings are likely to disclose trade secrets and commercial or financial information obtained from a person which is privileged or confidential.

Dated: October 22, 2004.
Richard F. Kayser,
Acting Deputy Director.

[FR Doc. 04-24102 Filed 10-27-04; 8:45 am]

BILLING CODE 3510-13-P